DEPARTMENT OF THE TREASURY

Internal Revenue Service

Open Meeting of the Small Business/Self Employed—Taxpayer Burden Reduction Committee of the Taxpayer Advocacy Panel

AGENCY: Internal Revenue Service (IRS), Treasury.

ACTION: Notice.

SUMMARY: An open meeting of the Small Business/Self Employed—Taxpayer Burden Reduction Committee of the Taxpayer Advocacy Panel will be conducted in Washington, DC. The TAP will be discussing issues pertaining to increasing compliance and lessening the burden for Small Business/Self Employed individuals.

DATES: The meeting will be held Wednesday, December 13, 2006, from 1:15 p.m. EST to 3 p.m. EST and Thursday, December 14, 2006, from 8 a.m. EST to 9:55 a.m. EST.

FOR FURTHER INFORMATION CONTACT: Marisa Knispel at 1-888-912-1227 or 718-488-3557.

SUPPLEMENTARY INFORMATION: Notice is hereby given pursuant to Section 10(a)(2) of the Federal Advisory Committee Act, 5 U.S.C. App. (1988) that an open meeting of the Small Business/Self Employed—Taxpayer Burden Committee of the Taxpayer Advocacy Panel will be held Wednesday, December 13, 2006 from 1:15 p.m. EST to 3 p.m. EST and Thursday, December 14, 2006 from 8 a.m. EST to 9:55 a.m. EST at the Hyatt Regency on Capitol Hill, 400 New Jersey Ave., NW., Washington, DC 20001. If you would like to have the TAP consider a written statement, please call 1-888-912-1227 or 718-488-3557, or write to Marisa Knispel, TAP Office, 10 Metro Tech Center, 625 Fulton Street, Brooklyn, NY 11201. For additional information, please contact Ms. Knispel at 1-888-912-1227 or 718-488-3557, or post comments to the Web site: http://www.improveirs.org.

The agenda will include the following: Various IRS issues.

Dated: November 21, 2006.
John Fay,
Acting Director, Taxpayer Advocacy Panel.

[FR Doc. E6-20101 Filed 11-27-06; 8:45 am]

BILLING CODE 4830-01-P